DEPARTMENT OF THE TREASURY

Submission for OMB Review; Comment Request

August 17, 2010.

The Department of the Treasury will submit the following public information collection requirements to OMB for review and clearance under the Paperwork Reduction Act of 1995, Public Law 104-13 on or after the date of publication of this notice. A copy of the submissions may be obtained by calling the Treasury Bureau Clearance Officer listed. Comments regarding these information collections should be addressed to the OMB reviewer listed and to the Treasury PRA Clearance Officer, Department of the Treasury, 1750 Pennsylvania Avenue, NW., Suite 11010, Washington, DC 20220.

DATES: Written comments should be received on or before September 22, 2010 to be assured of consideration.

Internal Revenue Service (IRS)

OMB Number: 1545-0170.

Type of Review: Extension without change to a currently approved collection.

Title: Corporation Application for Quick Refund of Overpayment of Estimated Tax.

Form: 4466.

Abstract: Form 4466 is used by a corporation to file for an adjustment (quick refund) of overpayment of estimated income tax for the tax year. This information is used to process the claim, so the refund can be issued.

Respondents: Private Sector: Businesses or other for-profits.

Estimated Total Burden Hours: 76,433 hours.

OMB Number: 1545-0685.

Type of Review: Revision of a currently approved collection.

Title: Export Exemption Certificate.

Form: 1363.

Abstract: This form is used by carriers of property by air to justify the tax-free transport of property. It is used by IRS as proof of tax exempt status of each shipment.

Respondents: Private Sector: Businesses or other for-profits.

Estimated Total Burden Hours: 425,000 hours.

OMB Number: 1545-0874.

Type of Review: Extension without change to a currently approved collection.

Title: Carryforward Election of Unused Private Activity Bond Volume Cap.

Form: 8328.

Abstract: Section 146(f) of the Internal Revenue Code requires that issuing authorities of certain types of tax-exempt bonds must notify the IRS if they intend to carry forward the unused limitation for specific projects. The IRS uses the information to complete the required study of tax-exempt bonds (required by Congress).

Respondents: Private Sector: Businesses or other for-profits.

Estimated Total Burden Hours: 132,200 hours.

OMB Number: 1545-0754.

Type of Review: Extension without change to a currently approved collection.

Title: LR-255-81 (Final) Substantiation of Charitable Contributions.

Abstract: Congress intended that the IRS prescribe rules and requirements to assure substantiation and verification of charitable contributions. The regulations serve these purposes.

Respondents: Individuals or Households.

Estimated Total Burden Hours: 2,158,000 hours.

OMB Number: 1545-0786.

Type of Review: Extension without change to a currently approved collection.

Title: INTL-50-86 (Final) (TD 8110) Sanctions on Issuers and Holders of Registration-Required Obligations Not in Registered Form.

Abstract: The Internal Revenue Service needs the information in order to ensure that purchasers of bearer obligations are not U.S. persons (other than those permitted to hold obligations under section 165(j)) and to ensure that U.S. persons holding bearer obligations properly report income and gain on such obligations. The people reporting will be institutions holding bearer obligations.

Respondents: Private Sector: Businesses or other for-profits.

Estimated Total Burden Hours: 39,742 hours.

OMB Number: 1545-1070.

Type of Review: Extension without change to a currently approved collection.

Title: TD 8223, Temporary, Branch Tax; TD 8432, Final and Temporary, Branch Profits Tax; and TD 8657, Final and Temporary, Regulations on Effectively Connected Income and the Branch Profits Tax.

Abstract: The regulations explain how to comply with section 884, which imposes a tax on the earnings of a foreign corporation's branch that are removed from the branch and which subjects interest paid by the branch, and certain interest deducted by the foreign corporation to tax.

Respondents: Private Sector: Businesses or other for-profits.

Estimated Total Burden Hours: 12,694 hours.

OMB Number: 1545-1603.

Type of Review: Extension without change to a currently approved collection.

Title: REG-104691-97 (Final) Electronic Tip Report.

Abstract: The regulations provide rules authorizing employers to establish electronic systems for use by their tipped employees in reporting tips to their employer. The information will be used by employers to determine the amount of income tax and FICA tax to withhold from the tipped employee's wages.

Respondents: Private Sector: Businesses or other for-profits.

Estimated Total Burden Hours: 600,000 hours.

OMB Number: 1545-1748.

Type of Review: Extension without change to a currently approved collection.

Title: REG-106917-99 (Final) Changes in Accounting Periods.

Abstract: Section 1.441-2(b) (1) requires certain taxpayers to file statements on their federal income tax returns to notify the Commissioner of the taxpayers' election to adopt a 52-53 week taxable year. Section 1.442-1(b)(4) provides that certain taxpayers must establish books and records that clearly reflect income for the short period involved when changing their taxable year to a fiscal taxable year. Section 1.442-1(d) requires a newly married husband or wife to file a statement with their short period return when changing to the other spouse's taxable year.

Respondents: Private Sector: Businesses or other for-profits.

Estimated Total Burden Hours: 500 hours.

OMB Number: 1545-0954.

Type of Review: Extension without change to a currently approved collection.

Title: Return for Nuclear Decommissioning Funds and Certain Related Persons.

Form: 1120-ND.

Abstract: A nuclear utility files Form 1120-ND to report the income and taxes of a fund set up by the public utility to provide cash for the dismantling of the nuclear power plant. The IRS uses Form 1120-ND to determine if the fund income taxes are correctly computed and if a person related to the fund or the nuclear utility must pay taxes on self-dealing.

Respondents: Private Sector: Businesses or other for-profits.

Estimated Total Burden Hours: 3,259 hours.

OMB Number: 1545-1354.

Type of Review: Extension without change to a currently approved collection.

Title: Treaty-Based Return Position Disclosure Under Section 6114 or 7701(b).

Form: 8833.

Abstract: Form 8833 is used by taxpayers that are required by section 6114 to disclose a treaty-based return position to disclose that position. The form may also be used to make the treaty-based position disclosure required by regulations section 301.7701(b)-7(b) for “dual resident” taxpayers.

Respondents: Private Sector: Businesses or other for-profits.

Estimated Total Burden Hours: 25,740 hours.

OMB Number: 1545-1722.

Type of Review: Extension without change to a currently approved collection.

Title: Extraterritorial Income Exclusion.

Form: 8873.

Abstract: A taxpayer uses Form 8873 to claim the gross income exclusion provided for by section 114 of the Internal Revenue Code.

Respondents: Private Sector: Businesses or other for-profits.

Estimated Total Burden Hours: 19,087,500 hours.

OMB Number: 1545-0213.

Type of Review: Extension without change to a currently approved collection.

Title: Annual Certification of Racial Nondiscrimination for a Private School Exempt from Federal Income Tax.

Form: 5578.

Abstract: Form 5578 is used by private schools that do not file Schedule A (Form 990) to certify that they have a racially nondiscriminatory policy toward students as outlined in Rev. Proc 75-50. The Internal Revenue Service uses the information to help ensure that the school is maintaining a nondiscriminatory policy in keeping with its exempt status.

Respondents: Private Sector: Not-for-profit institutions.

Estimated Total Burden Hours: 3,730 hours.

OMB Number: 1545-0773.

Type of Review: Extension without change to a currently approved collection.

Title: TD 8172 (Final) Qualification of Trustee or Like Fiduciary in Bankruptcy

Abstract: Internal Revenue Code section 6036 requires that receivers, trustees in bankruptcy, assignees for the benefit of creditors, or other like fiduciaries, and all executors shall notify the district director within 10 days of appointment. This regulation provides that the notice shall include the name and location of the Court and when possible, the date, time, and place of any hearing, meeting or other scheduled action. The regulation also eliminates the notice requirement under section 6036 for bankruptcy trustees, debtors in possession and other fiduciaries in a bankruptcy proceeding.

Respondents: Individuals or Households.

Estimated Total Burden Hours: 12,500 hours.

OMB Number: 1545-0201.

Type of Review: Extension without change to a currently approved collection.

Title: Request for Change in Plan/Trust Year.

Form: 5308.

Abstract: Form 5308 is used to request permission to change the plan or trust year for a pension benefit plan. The information submitted is used in determining whether IRS should grant permission for the change.

Respondents: Private Sector: Businesses or other for-profits.

Estimated Total Burden Hours: 339 hours.

Bureau Clearance Officer: R. Joseph Durbala, Internal Revenue Service, 1111 Constitution Avenue, NW., Room 6129, Washington, DC 20224; (202) 622-3634.

OMB Reviewer: Shagufta Ahmed, Office of Management and Budget, New Executive Office Building, Room 10235, Washington, DC 20503; (202) 395-7873.

Celina Elphage,
Treasury PRA Clearance Officer.

[FR Doc. 2010-20823 Filed 8-20-10; 8:45 am]

BILLING CODE 4830-01-P